DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by Section 2112(b)(2) of the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, Maryland 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on July 1, 2020, through July 31, 2020. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the United States Court of Federal Claims at the address listed above (under the heading FOR FURTHER INFORMATION CONTACT), with a copy to HRSA addressed to Director, Division of Injury Compensation Programs, Healthcare Systems Bureau, 5600 Fishers Lane, 08N146B, Rockville, Maryland 20857.

The Court's caption (Petitioner's Name v. Secretary of HHS) and the docket number assigned to the petition should be used as the caption for the written submission. Chapter 35 of title 44, United States Code, related to paperwork reduction, does not apply to information required for purposes of carrying out the Program.

Thomas J. Engels,
Administrator.

List of Petitions Filed

1. Kevin Reilley, Bedford, New Hampshire, Court of Federal Claims No: 20-0798V

2. Patrick John Coleman, North Bend, Washington, Court of Federal Claims No: 20-0799V

3. Susan Laracy, Burlington, Massachusetts, Court of Federal Claims No: 20-0800V

4. Ana Guardiola, Houston, Texas, Court of Federal Claims No: 20-0801V

5. Joy Holladay on behalf of M.C., Manning, South Carolina, Court of Federal Claims No: 20-0804V

6. Victor Stock on behalf of Estate of Cynthia Stock, Deceased, Englewood, New Jersey, Court of Federal Claims No: 20-0805V

7. Ronald Orion, Middletown, New York, Court of Federal Claims No: 20-0806V

8. Shirley A. Millett, Springboro, Ohio, Court of Federal Claims No: 20-0807V

9. William C. Herrick, White River Junction, Vermont, Court of Federal Claims No: 20-0809V

10. Lynn Gustafson, Berkeley, California, Court of Federal Claims No: 20-0810V

11. Sandra Adkins, Huntington, West Virginia, Court of Federal Claims No: 20-0813V

12. Erin Lynn Gillaspy, Bridgeton, Missouri, Court of Federal Claims No: 20-0815V

13. Michelle Han, West Hayward, California, Court of Federal Claims No: 20-0817V

14. Branislav Grujic, Port Washington, New York, Court of Federal Claims No: 20-0820V

15. Kimberly Reser, Clayton, Ohio, Court of Federal Claims No: 20-0825V

16. Cathy Boyd, Pasadena, California, Court of Federal Claims No: 20-0826V

17. Michael Cervantes, Middletown, Connecticut, Court of Federal Claims No: 20-0827V

18. Jonathon Bafus, Roseville, California, Court of Federal Claims No: 20-0828V

19. Noelle Anderson on behalf of C.A., Spring, Texas, Court of Federal Claims No: 20-0830V

20. Amy M. Kreithen, Pittsburgh, Pennsylvania, Court of Federal Claims No: 20-0833V

21. Jake Buchma, Unadilla, New York, Court of Federal Claims No: 20-0834V

22. Corinn Darby on behalf of John R. Darby, Deceased, Portland, Maine, Court of Federal Claims No: 20-0836V

23. Jennifer Reyes, Freehold Township, New Jersey, Court of Federal Claims No: 20-0839V

24. Samantha McNair, High Point, North Carolina, Court of Federal Claims No: 20-0840V

25. Alexei Rodionov, Southampton, Pennsylvania, Court of Federal Claims No: 20-0842V

26. Janice Dickhardt, Boca Raton, Florida, Court of Federal Claims No: 20-0843V

27. Kyle Mattox, North Vernon, Indiana, Court of Federal Claims No: 20-0844V

28. Annette Molina, Holyoke, Massachusetts, Court of Federal Claims No: 20-0845V

29. Kalee Cambray on behalf of S.C., Milwaukee, Wisconsin, Court of Federal Claims No: 20-0847V

30. Glenn T. McMahon, Stroudsburg, Pennsylvania, Court of Federal Claims No: 20-0848V

31. Jan Kelsey, Indianapolis, Indiana, Court of Federal Claims No: 20-0850V

32. Analicia Guerrero, Edina, Minnesota, Court of Federal Claims No: 20-0851V

33. Bernadette Moya, Edgewood, New Mexico, Court of Federal Claims No: 20-0854V

34. Craig Fisher, Phoenix, Arizona, Court of Federal Claims No: 20-0855V

35. Sally Velez on behalf of N.V., Wrightsville, Pennsylvania, Court of Federal Claims No: 20-0856V

36. Shirley Vanderford, Frisco, Texas, Court of Federal Claims No: 20-0857V

37. Clarence Deacon, Newark, Delaware, Court of Federal Claims No: 20-0858V

38. Amy J. Wolf, Franklin, Wisconsin, Court of Federal Claims No: 20-0861V

39. Arthur French, East Hampton, New York, Court of Federal Claims No: 20-0862V

40. Gail Cook, Springfield, Oregon, Court of Federal Claims No: 20-0866V

41. William Ash, Brooklyn, New York, Court of Federal Claims No: 20-0867V

42. Shanna Hendrix on behalf of D. H., Phoenix, Arizona, Court of Federal Claims No: 20-0868V

43. John Birrell-Levine, North Bend, Washington, Court of Federal Claims No: 20-0871V

44. Jeffrey Balch, Chicago, Illinois, Court of Federal Claims No: 20-0872V

45. Elaine Montana, Boston, Massachusetts, Court of Federal Claims No: 20-0873V

46. Susan Greenberg-Folkman, Los Ranchos, New Mexico, Court of Federal Claims No: 20-0874V

47. Wanda Oliver, Boston, Massachusetts, Court of Federal Claims No: 20-0877V

48. Jerry L. Bailey, Moline, Illinois, Court of Federal Claims No: 20-0878V

49. Jasmine Dede, Elmont, New York, Court of Federal Claims No: 20-0880V

50. Domenica Foster, Medford, New Jersey, Court of Federal Claims No: 20-0882V

51. Eric Simmons, Boston, Massachusetts, Court of Federal Claims No: 20-0884V

52. Gesdia Kelly, Phoenix, Arizona, Court of Federal Claims No: 20-0885V

53. Mark Thomas on behalf of Z. T., Loxahatchee, Florida, Court of Federal Claims No: 20-0886V

54. John Timothy Hamilton, Boston, Massachusetts, Court of Federal Claims No: 20-0887V

55. Thomas Bierbaum, Edina, Minnesota, Court of Federal Claims No: 20-0888V

56. Shaun Gladders, New Lenox, Illinois, Court of Federal Claims No: 20-0891V

57. Kyle Bolick, Omaha, Nebraska, Court of Federal Claims No: 20-0893V

58. Brandon Robison, Yakima, Washington, Court of Federal Claims No: 20-0896V

59. Christopher Diane Lewis, Dallas, Texas, Court of Federal Claims No: 20-0898V

60. Jan Koonce, Boston, Massachusetts, Court of Federal Claims No: 20-0899V

61. Paula Doze, Boston, Massachusetts, Court of Federal Claims No: 20-0900V

62. Raymond Balcer, Boston, Massachusetts, Court of Federal Claims No: 20-0901V

63. James Harkins, Hamilton, Montana, Court of Federal Claims No: 20-0902V

64. Sapna Patel, Houston, Texas, Court of Federal Claims No: 20-0903V

65. Russell Ramsey, Oklahoma City, Oklahoma, Court of Federal Claims No: 20-0904V

66. Allison Romansky, Baltimore, Maryland, Court of Federal Claims No: 20-0907V

67. Constance Nichols, Watertown, New York, Court of Federal Claims No: 20-0912V

68. Georgina Ransford, Washington, District of Columbia, Court of Federal Claims No: 20-0914V

69. Jason Barrow, Washington, District of Columbia, Court of Federal Claims No: 20-0915V

70. Christopher Dougherty, Washington, District of Columbia, Court of Federal Claims No: 20-0916V

71. James Kincaid, Washington, District of Columbia, Court of Federal Claims No: 20-0917V

72. Ashley Nore, Huntsville, Alabama, Court of Federal Claims No: 20-0919V

73. Tawana T. Morrison, Rochester, New York, Court of Federal Claims No: 20-0921V

74. Theresa Pistochini, Washington, District of Columbia, Court of Federal Claims No: 20-0922V

75. Eric Newak, Coer d'Alene, Idaho, Court of Federal Claims No: 20-0923V

76. Jodi Solem, Washington, District of Columbia, Court of Federal Claims No: 20-0925V

77. Jodi Solem, Washington, District of Columbia, Court of Federal Claims No: 20-0927V

78. Ayon Wen-Waldron on behalf of The Estate of Darryl Waldron, Washington, District of Columbia Court of Federal Claims No: 20-0928V

79. Samantha Ivers, Elk Grove Village, Illinois, Court of Federal Claims No: 20-0929V

80. Amber Bob on behalf of G. B., Phoenix, Arizona, Court of Federal Claims No: 20-0931V

81. Ijeoma Chukwudum, Houston, Texas, Court of Federal Claims No: 20-0936V

82. Carl Carnes, Beverly Hills, California, Court of Federal Claims No: 20-0937V

83. Mary Ward, Fontana, California, Court of Federal Claims No: 20-0938V

84. Olivia Renchen, Beverly Hills, California, Court of Federal Claims No: 20-0939V

85. Darla Conley, Beverly Hills, California,Court of Federal Claims No: 20-0940V

86. Linda Howard, Dresher, Pennsylvania, Court of Federal Claims No: 20-0941V

87. Erin Mattheis, Beverly Hills, California, Court of Federal Claims No: 20-0942V

88. Lillie Johnson, Dresher, Pennsylvania, Court of Federal Claims No: 20-0943V

89. Theresa Cristoph, Richmond, Virginia, Court of Federal Claims No: 20-0945V

90. Jessica Mott on behalf of Lola Crawford, New York, New York, Court of Federal Claims No: 20-0947V

91. Annika Olsen-Santoro, Pasadena, California, Court of Federal Claims No: 20-0948V

92. Randy Moore, Washington, District of Columbia, Court of Federal Claims No: 20-0949V

[FR Doc. 2020-17936 Filed 8-14-20; 8:45 am]

BILLING CODE 4165-15-P